INTERNATIONAL TRADE COMMISSION

[Investigation No. 731-TA-1527 (Final)]

Standard Steel Welded Wire Mesh From Mexico; Scheduling of the Final Phase of Anti-Dumping Duty Investigation

AGENCY: United States International Trade Commission.

ACTION: Notice.

DATES: June 23, 2021.

FOR FURTHER INFORMATION CONTACT: Julie Duffy ((202) 708-2579), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for the Commission's antidumping duty and countervailing duty investigations may be viewed on the Commission's electronic docket (EDIS) at https://edis.usitc.gov.

SUPPLEMENTARY INFORMATION: Effective December 3, 2020, the Commission established a general schedule for the conduct of the final phase of its investigations on standard steel welded wire mesh (“wire mesh”) from Mexico (85 FR 81487, December 16, 2020), following a preliminary determination by the U.S. Department of Commerce (“Commerce”) that imports of subject wire mesh from Mexico were being subsidized by the government of Mexico (85 FR 78124, December 3, 2020). Notice of the scheduling of the final phase of the Commission's investigations and of a public hearing held in connection therewith was given by posting copies of the notice in the Office of the Secretary, U.S. International Trade Commission, Washington, DC, and by publishing the notice in the Federal Register on December 16, 2020 (85 FR 81487). In light of the restrictions on access to the Commission building due to the COVID-19 pandemic, the Commission conducted its hearing through written testimony and video conference on February 12, 2021. All persons who requested the opportunity were permitted to participate. The Commission subsequently issued its final determination that an industry in the United States was materially injured by reason of imports of wire mesh from Mexico provided for in subheadings 7314.20.00 and 7314.39.00 of the Harmonized Tariff Schedule of the United States (“HTSUS”) that have been found by Commerce to be subsidized by the government of Mexico (86 FR 18555, April 9, 2021).

Commerce has issued a final affirmative antidumping duty determination with respect to wire mesh from Mexico (86 FR 32891, June 23, 2021). Accordingly, the Commission currently is issuing a supplemental schedule for its antidumping duty investigation on imports of wire mesh from Mexico.

This supplemental schedule is as follows: The deadline for filing supplemental party comments on Commerce's final antidumping duty determination is July 2, 2021. Supplemental party comments may address only Commerce's final antidumping duty determination regarding imports of wire mesh from Mexico. These supplemental final comments may not contain new factual information and may not exceed five (5) pages in length. The supplemental staff report in the final phase of the Commission's antidumping duty investigation covering subject imports from Mexico will be placed in the nonpublic record on July 8, 2021, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the antidumping duty and countervailing duty investigations must be served on all other parties to the investigations (as identified by either the public or BPI service list), and a certificate of service must be timely filed. The Secretary will not accept a document for filing without a certificate of service.

Authority: This proceeding is being conducted under authority of title VII of the Tariff Act of 1930; this notice is published pursuant to section 207.21 of the Commission's rules.

By order of the Commission.
Issued: June 25, 2021.
Lisa Barton,
Secretary to the Commission.

[FR Doc. 2021-14020 Filed 6-30-21; 8:45 am]

BILLING CODE 7020-02-P